DEPARTMENT OF JUSTICE

Notice of Lodging of Proposed Consent Decree

In accordance with Departmental Policy, 28 CFR 50.7, notice is hereby given that a proposed Consent Decree in United States v. Wafler Farms, Inc., d/b/a Wafler Nursery & Orchards, et al., Case No. 6:20-cv-06363, was lodged with the United States District Court for the Western District of New York on July 23, 2024.

This proposed Consent Decree concerns a complaint filed by the United States against Defendants Wafler Farms, Inc., d/b/a Wafler Nursery & Orchards, Huron Enterprises, LLC, Paul E. Wafler, and Susan Wafler, pursuant to Section 301(a) of the Clean Water Act, 33 U.S.C. 1311(a), to obtain injunctive relief from the Defendants for violating the Clean Water Act by discharging pollutants without a permit into waters of the United States. The proposed Consent Decree resolves these allegations by requiring the Defendants to perform mitigation.

The Department of Justice will accept written comments relating to this proposed Consent Decree for thirty (30) days from the date of publication of this Notice. Please address comments by mail to Assistant United States Attorney David M. Coriell, United States Attorney's Office, Western District of New York, 138 Delaware Avenue, Buffalo, New York 14202, or by email to pubcomment_eds.enrd@usdoj.gov and refer to United States v. Wafler Farms Inc., d/b/a Wafler Nursery & Orchards, et al., 2019V01814, DJ No. 90-5-1-1-21617.

The proposed Consent Decree may be examined at the Clerk's Office, United States District Court for the Western District of New York, 100 State Street, Rochester, New York 14614. In addition, the proposed Consent Decree may be examined electronically at https://www.justice.gov/enrd/consent-decrees.

Cherie Rogers,
Assistant Section Chief, Environmental Defense Section, Environment and Natural Resources Division.

[FR Doc. 2024-16577 Filed 7-26-24; 8:45 am]

BILLING CODE P